DEPARTMENT OF ENERGY

Federal Energy Regulatory Commission

[Docket No. ER05-488-001, et al.]

La Paloma Holding Company, LLC, et al.; Electric Rate and Corporate Filings

March 29, 2005.

The following filings have been made with the Commission. The filings are listed in ascending order within each docket classification.

1. Commonwealth Edison Company, PJM Interconnection, L.L.C.

[Docket Nos. ER05-488-001, ER04-718-015]

Take notice that on March 25, 2005, Commonwealth Edison Company (ComEd) filed a refund report in compliance with the Letter Order issued March 2, 2005 in Docket Nos. ER05-488-000 and ER04-718-012 by the Director of the Division of Tariffs and Market Development—East in the Commission's Office of Markets, Tariffs and Rates.

Comment Date: 5 p.m. eastern time on April 15, 2005.

2. Total Gas & Electricity (PA), Inc.

[Docket No. ER05-687-001]

Take notice that on March 23, 2005, Total Gas & Electricity (PA), Inc. (TG&E) submitted for filing a revised proposed rate schedule, modifying its proposed rate schedule submitted on March 8, 2005, in Docket No. ER05-687-000. TG&E requests an effective date of April 7, 2005.

Comment Date: 5 p.m. eastern time on April 8, 2005.

3. TransCanada Power (Castleton) LLC

[Docket No. ER05-723-000]

Take notice that on March 23, 2005, TransCanada Power (Castleton) LLC (TCP Castleton) filed a conditional application requesting that the Commission accept for filing its market-based tariff, and grant TCP Casleton the authority to sell energy in wholesale transactions at negotiated, market-based rates. TCP requests a retroactive effective date of February 22, 2002. TCP also requests that this application be held in abeyance pending the Commission's ruling on TCP Castleton's petition for declaratory order filed March 23, 2005 in Docket No. EL05-79-000.

Comment Date: 5 p.m. eastern time on April 13, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1517 Filed 4-4-05; 8:45 am]

BILLING CODE 6717-01-P